DEPARTMENT OF ENERGY

Federal Energy Regulatory Commission

Combined Notice of Filings

Take notice that the Commission has received the following Natural Gas Pipeline Rate and Refund Report filings:

Filings Instituting Proceedings

Docket Numbers: RP18-1229-001.

Applicants: Tennessee Gas Pipeline Company, L.L.C.

Description: Tariff Amendment: Volume No. 2—BKV Operating LLC Table of Contents Amend to be effective 11/1/2018.

Filed Date: 10/10/18.

Accession Number: 20181010-5101.

Comments Due: 5 p.m. ET 10/22/18.

Docket Numbers: RP19-50-000.

Applicants: White River Hub, LLC.

Description: eTariff filing per 1430: Form 501-G Report.

Filed Date: 10/11/18.

Accession Number: 20181011-5000.

Comments Due: 5 p.m. ET 10/23/18.

Docket Numbers: RP19-51-000.

Applicants: Bear Creek Storage Company, L.L.C.

Description: eTariff filing per 1430: FERC Form No. 501-G Report.

Filed Date: 10/11/18.

Accession Number: 20181011-5023.

Comments Due: 5 p.m. ET 10/23/18.

Docket Numbers: RP19-52-000.

Applicants: Gulfstream Natural Gas System, L.L.C.

Description: eTariff filing per 1430: GNGS FERC Form 501-G.

Filed Date: 10/11/18.

Accession Number: 20181011-5024.

Comments Due: 5 p.m. ET 10/23/18.

Docket Numbers: RP19-53-000.

Applicants: Kinetica Deepwater Express, LLC.

Description: eTariff filing per 1430: Form 501-G.

Filed Date: 10/11/18.

Accession Number: 20181011-5025.

Comments Due: 5 p.m. ET 10/23/18.

Docket Numbers: RP19-54-000.

Applicants: Kinetica Energy Express, LLC.

Description: eTariff filing per 1430: Form 501-G.

Filed Date: 10/11/18.

Accession Number: 20181011-5027.

Comments Due: 5 p.m. ET 10/23/18.

Docket Numbers: RP19-55-000.

Applicants: Kern River Gas Transmission Company.

Description: eTariff filing per 1430: 20181011 FERC Form No. 501-G.

Filed Date: 10/11/18.

Accession Number: 20181011-5031.

Comments Due: 5 p.m. ET 10/23/18.

Docket Numbers: RP19-56-000.

Applicants: MIGC LLC.

Description: eTariff filing per 1430: MIGC FERC Form No. 501-G Report.

Filed Date: 10/11/18.

Accession Number: 20181011-5032.

Comments Due: 5 p.m. ET 10/23/18.

Docket Numbers: RP19-57-000.

Applicants: Algonquin Gas Transmission, LLC.

Description: eTariff filing per 1430: AGT FERC Form 501-G.

Filed Date: 10/11/18.

Accession Number: 20181011-5044.

Comments Due: 5 p.m. ET 10/23/18.

Docket Numbers: RP19-58-000.

Applicants: Transcontinental Gas Pipe Line Company, LLC.

Description: § 4(d) Rate Filing: List of Non-Conforming Service Agreements (ASR In-Svc and Misc.) to be effective 11/11/2018.

Filed Date: 10/11/18.

Accession Number: 20181011-5046.

Comments Due: 5 p.m. ET 10/23/18.

Docket Numbers: RP19-59-000.

Applicants: Northern Natural Gas Company.

Description: eTariff filing per 1430: 20181011 FERC Form No. 501-G.

Filed Date: 10/11/18.

Accession Number: 20181011-5055.

Comments Due: 5 p.m. ET 10/23/18.

Docket Numbers: RP19-60-000.

Applicants: Vector Pipeline L.P.

Description: eTariff filing per 1430: FERC Form 501-G Filing.

Filed Date: 10/11/18.

Accession Number: 20181011-5070.

Comments Due: 5 p.m. ET 10/23/18.

Docket Numbers: RP19-61-000.

Applicants: Vector Pipeline L.P.

Description: eTariff filing per 1440: Limited Section 4 Tax Reduction Filing to be effective 12/1/2018.

Filed Date: 10/11/18.

Accession Number: 20181011-5073.

Comments Due: 5 p.m. ET 10/23/18.

Docket Numbers: RP19-62-000.

Applicants: Dominion Energy Transmission, Inc.

Description: eTariff filing per 1430: DETI—FERC Form No. 501-G.

Filed Date: 10/11/18.

Accession Number: 20181011-5079.

Comments Due: 5 p.m. ET 10/23/18.

Docket Numbers: RP19-63-000.

Applicants: East Tennessee Natural Gas, LLC.

Description: eTariff filing per 1430: ETNG FERC Form No. 501-G.

Filed Date: 10/11/18.

Accession Number: 20181011-5084.

Comments Due: 5 p.m. ET 10/23/18.

Docket Numbers: RP19-64-000.

Applicants: East Tennessee Natural Gas, LLC.

Description: eTariff filing per 1440: ETNG Limited Section 4 to be effective 12/1/2018.

Filed Date: 10/11/18.

Accession Number: 20181011-5088.

Comments Due: 5 p.m. ET 10/23/18.

Docket Numbers: RP19-65-000.

Applicants: Millennium Pipeline Company, LLC.

Description: eTariff filing per 1430: Form 501-G Report.

Filed Date: 10/11/18.

Accession Number: 20181011-5097.

Comments Due: 5 p.m. ET 10/23/18.

Docket Numbers: RP19-66-000.

Applicants: Millennium Pipeline Company, LLC.

Description: § 4(d) Rate Filing: Limited NGA Section 4 to be effective 12/1/2018.

Filed Date: 10/11/18.

Accession Number: 20181011-5098.

Comments Due: 5 p.m. ET 10/23/18.

Docket Numbers: RP19-67-000.

Applicants: Discovery Gas Transmission LLC.

Description: eTariff filing per 1430: FERC Form 501-G Submittal.

Filed Date: 10/11/18.

Accession Number: 20181011-5101.

Comments Due: 5 p.m. ET 10/23/18.

Docket Numbers: RP19-68-000.

Applicants: Horizon Pipeline Company, L.L.C.

Description: eTariff filing per 1430: Form No. 501-G Compliance Filing.

Filed Date: 10/11/18.

Accession Number: 20181011-5108.

Comments Due: 5 p.m. ET 10/23/18.

Docket Numbers: RP19-69-000.

Applicants: MIGC LLC.

Description: eTariff filing per 1430: MIGC FERC Form No. 501-G Report.

Filed Date: 10/11/18.

Accession Number: 20181011-5114.

Comments Due: 5 p.m. ET 10/23/18.

Docket Numbers: RP19-70-000.

Applicants: Portland Natural Gas Transmission System.

Description: eTariff filing per 1430: PNGTS 501-G Filing.

Filed Date: 10/11/18.

Accession Number: 20181011-5118.

Comments Due: 5 p.m. ET 10/23/18.

Docket Numbers: RP19-71-000.

Applicants: North Baja Pipeline, LLC.

Description: eTariff filing per 1430: North Baja 501-G.

Filed Date: 10/11/18.

Accession Number: 20181011-5121.

Comments Due: 5 p.m. ET 10/23/18.

Docket Numbers: RP19-72-000.

Applicants: North Baja Pipeline, LLC.

Description: eTariff filing per 1440: North Baja Limited Section 4 Tax Reduction Filing to be effective 12/1/2018.

Filed Date: 10/11/18.

Accession Number: 20181011-5123.

Comments Due: 5 p.m. ET 10/23/18.

Docket Numbers: RP19-73-000.

Applicants: El Paso Natural Gas Company, L.L.C.

Description: eTariff filing per 1430: El Paso Form No. 501-G Filing.

Filed Date: 10/11/18.

Accession Number: 20181011-5124.

Comments Due: 5 p.m. ET 10/23/18.

Docket Numbers: RP19-74-000.

Applicants: Texas Gas Transmission, LLC.

Description: eTariff filing per 1430: FERC Form No. 501-G Filing.

Filed Date: 10/11/18.

Accession Number: 20181011-5129.

Comments Due: 5 p.m. ET 10/23/18.

Docket Numbers: RP19-75-000.

Applicants: Southern Star Central Gas Pipeline, Inc.

Description: eTariff filing per 1430: Form 501-G in Compliance.

Filed Date: 10/11/18.

Accession Number: 20181011-5136.

Comments Due: 5 p.m. ET 10/23/18.

Docket Numbers: RP19-76-000.

Applicants: Kern River Gas Transmission Company.

Description: Compliance filing 2018 Settlement for Tax Reform Credit to be effective 12/31/9998.

Filed Date: 10/11/18.

Accession Number: 20181011-5137.

Comments Due: 5 p.m. ET 10/23/18.

Docket Numbers: RP19-77-000.

Applicants: Trunkline Gas Company, LLC.

Description: eTariff filing per 1430: FERC Form No. 501-G Report.

Filed Date: 10/11/18.

Accession Number: 20181011-5151.

Comments Due: 5 p.m. ET 10/23/18.

Docket Numbers: RP19-78-000.

Applicants: Panhandle Eastern Pipe Line Company, LP.

Description: eTariff filing per 1430: FERC Form No. 501-G Report.

Filed Date: 10/11/18.

Accession Number: 20181011-5152.

Comments Due: 5 p.m. ET 10/23/18.

Docket Numbers: RP19-79-000.

Applicants: Enable Gas Transmission, LLC.

Description: eTariff filing per 1430: EGT 501-G Filing.

Filed Date: 10/11/18.

Accession Number: 20181011-5153.

Comments Due: 5 p.m. ET 10/23/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 15, 2018.
Nathaniel J. Davis, Sr.,
Deputy Secretary.

[FR Doc. 2018-22822 Filed 10-18-18; 8:45 am]

BILLING CODE 6717-01-P